DEPARTMENT OF JUSTICE

Notice of Lodging of Proposed Consent Judgment Under the Clean Air Act

On August 20, 2024, the Department of Justice lodged a proposed Consent Judgment with the United States District Court for the Eastern District of New York in the lawsuit entitled United States of America v. Gershow Recycling Corporation, Civil Action No. 24-CV-5794-GRB-AYS.

The United States filed this lawsuit under the Clean Air Act, 42 U.S.C. 7413(a)-(b) (“CAA”). The Complaint seeks civil penalties and injunctive relief for Gershow Recycling Corporation's (“Gershow”) past and ongoing operation of a metal shredder without reasonably available emission control technology (“RACT”) in violation of the CAA and the federally enforceable State Implementation Plan (“SIP”) contained in New York State regulations, 6 N.Y.C.R.R. § 212-3 et seq. The facility is located in Medford, New York, in Suffolk County. The CAA and relevant regulations require major sources of Volatile Organic Compounds (“VOC”) emissions to obtain a permit, install RACT, and annually report emissions of all regulated air contaminants. The Complaint alleges that Gershow failed to comply with these requirements.

The Consent Judgment requires Gershow to comply with the SIP, obtain an appropriate CAA Title V permit, and install and operate an emission capture system and air pollution control equipment. The emission capture system will capture relevant emissions and route them to air pollution control equipment that will remove particulate matter, VOCs, and acid gases from the shredder's emission in accordance with specifications detailed in the Consent Judgment. The Consent Judgment also requires Defendants to pay a $555,000 civil penalty.

The publication of this notice opens a period for public comment on the proposed Consent Judgment. Comments should be addressed to the Assistant Attorney General, Environment and Natural Resources Division, and should refer to United States of America v. Gershow Recycling Corporation, D.J. Ref. No. 90-5-2-1-12657. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, D.C. 20044-7611.

Any comments submitted in writing may be filed in whole or in part on the public court docket without notice to the commenter.

During the public comment period, the Consent Judgment may be examined and downloaded at this Justice Department website: https://www.justice.gov/enrd/consent-decrees. If you require assistance accessing the consent judgment, you may request assistance by email or mail to the addresses provided above for submitting comments.

Eric D. Albert,
Assistant Section Chief, Environmental Enforcement Section, Environment and Natural Resources Division.

[FR Doc. 2024-19142 Filed 8-26-24; 8:45 am]

BILLING CODE 4410-15-P